DEPARTMENT OF THE TREASURY

Submission for OMB Review; Comment Request

September 20, 2007.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before October 29, 2007 to be assured of consideration.

Internal Revenue Service (IRS)

OMB Number: 1545-XXXX.

Type of Review: New.

Title: TAP Tax Check Waiver.

Description: Taxpayer Advocacy Panel (TAP) members must be compliant with their tax obligations and must undergo and pass a tax check in order to be selected as a TAP member. By executing the Tax Check Waiver, the applicant provides information to facilitate conduct of the tax check and authorizes the IRS official conducting the check to release the results, which are otherwise confidential, to the Director of TAP to help in determining the suitability of the applicant for membership on TAP.

Respondents: Individuals or households.

Estimated Total Burden Hours: 37 hours

OMB Number: 1545-XXXX.

Type of Review: New.

Title: RP-2007-XX (RP-155430-05), Accelerated Appeals Procedure.

Description: This revenue procedure establishes the Accelerated Appeals Procedure for taxpayers who are issued a proposed assessment of penalty under section 6707 of 6707A of the Internal Revenue Code. These taxpayers may request that the Office of Appeals review and consider resolution of the proposed assessment. The information to be collected under the revenue procedure is needed to initiate, and will be used to conduct, the Accelerated Appeals Procedure.

Respondents: Individuals or households.

Estimated Total Burden Hours: 430 hours.

Clearance Officer: Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Robert Dahl,
Treasury PRA Clearance Officer.

[FR Doc. E7-19040 Filed 9-26-07; 8:45 am]

BILLING CODE 4830-01-P